DEPARTMENT OF COMMERCE

Foreign-Trade Zones Board

Order No. 1548

Approval for Expansion of Authority for Subzone 103A, Imation Enterprise Corp. (Data Storage Products), Wahpeton, North Dakota Area

Pursuant to its authority under the Foreign-Trade Zones Act of June 18, 1934, as amended (19 U.S.C. 81a-81u), the Foreign-Trade Zones Board (the Board) adopts the following Order:

Whereas, Imation Enterprise Corp. (Imation), operator of Subzone 103A, has requested authority to expand the scope of manufacturing activity conducted under zone procedures within Subzone 103A at the Imation facilities in the Wahpeton, North Dakota area (FTZ Docket 27-2007, filed 7/23/2007);

Whereas, notice inviting public comment has been given in the Federal Register (72 FR 41705, 7/31/2007);

Whereas, the Board adopts the findings and recommendations of the examiner's report, and finds that the requirements of the FTZ Act and Board's regulations are satisfied, and that approval of the application is in the public interest;

Now, therefore, the Board hereby orders:

The application to expand the scope of manufacturing authority under zone procedures within Subzone 103A, is approved, subject to the FTZ Act and the Board's regulations, including § 400.28.

Signed at Washington, DC, this 7th day of March 2008.

David M. Spooner,
Assistant Secretary of Commerce for Import Administration, Alternate Chairman, Foreign-Trade Zones Board.
Attest:
Andrew McGilvray,
Executive Secretary.

[FR Doc. E8-5432 Filed 3-17-08; 8:45 am]

BILLING CODE 3510-DS-S